DEPARTMENT OF THE INTERIOR

Office of the Secretary

Establishment of the Lake Champlain Sea Lamprey Control Alternatives Workgroup

AGENCY: Office of the Secretary, Interior.

ACTION: Notice of establishment.

SUMMARY: The Secretary of the Interior (Secretary), after consultation with the General Services Administration, has established the Lake Champlain Sea Lamprey Control Alternatives Workgroup (Workgroup). The Workgroup will provide an opportunity for stakeholders to give policy and technical input on efforts to develop and implement sea lamprey control techniques alternative to lampricides in Lake Champlain.

FOR FURTHER INFORMATION CONTACT: Dave Tilton, Fish and Wildlife Service, Lake Champlain Fish and Wildlife Resources Complex, 11 Lincoln Street, Essex Junction, Vermont 05452, 802-872-0629, extension 12.

SUPPLEMENTARY INFORMATION: We are publishing this notice in accordance with the requirements of the Federal Advisory Committee Act (FACA) (5 U.S.C. App.). The Secretary certifies that she has determined that the formation of the Workgroup is necessary and is in the public interest.

The Workgroup will conduct its operations in accordance with the provisions of the FACA. It will report to the Secretary through the Fish and Wildlife Service (Service) and Lake Champlain Fish and Wildlife Management Cooperative (Cooperative) and will function solely as an advisory body.

The Workgroup will provide recommendations and consensus advice to the Cooperative. Specific responsibilities of the Workgroup are to: (1) Develop consensus advice regarding the implementation of sea lamprey control methods alternative to lampricides; (2) recommend priorities for research to be conducted by cooperating organizations and demonstration projects to be developed and funded by State and Federal agencies; and (3) assist Federal and State agencies with the coordination of alternative sea lamprey control research to advance the state of the science in Lake Champlain and the Great Lakes.

The Secretary will appoint up to 20 members who can effectively represent the varied interests associated with the Lake Champlain Long-term Sea Lamprey Control Program. Members will represent Federal and State agencies and stakeholders. These members will be representatives of their respective constituent groups. In addition, the Secretary will appoint up to five members as special Government employees, selected for their scientific expertise. All members will be knowledgeable about Lake Champlain fishery management issues, including sea lamprey control. The Secretary will appoint Workgroup members based on nominations submitted by interested parties, including but not limited to: Vermont and New York State agencies; recreational and charter fishermen; sportfishing organizations; environmental organizations; research institutions; and the general public residing within the Lake Champlain area.

We expect that the Workgroup will meet two to four times per year. The Service will provide necessary support services to the Workgroup. All Workgroup meetings will be open to the public. The Service will publish a notice announcing each Workgroup meeting in the Federal Register at least 15 days before the date of the meeting. The public will have the opportunity to provide input at all meetings.

Fifteen days after publication of this notice in the Federal Register, a copy of the Workgroup's charter will be filed with the Committee Management Secretariat, General Services Administration; Committee on Environment and Public Works, United States Senate; Committee on Resources, United States House of Representatives; and the Library of Congress.

The Certification for establishment is published below.

Certification

I hereby certify that the Lake Champlain Sea Lamprey Control Alternatives Workgroup (Workgroup) is necessary and is in the public interest in connection with the performance of duties imposed on the Department of the Interior through the Supplemental Environmental Impact Statement for a Long-term Program of Sea Lamprey Control in Lake Champlain as published in 2001 (66 FR 46651, September 6, 2001). The Workgroup will assist the Department of the Interior by providing recommendations and policy and technical consensus advice on the development and implementation of sea lamprey control techniques alternative to lampricides in Lake Champlain.

Dated: March 30, 2006.
Gale A. Norton,
Secretary of the Interior.

[FR Doc. E6-5138 Filed 4-7-06; 8:45 am]

BILLING CODE 4310-55-P